DEPARTMENT OF HEALTH AND HUMAN SERVICES

Office of the Secretary

[Document Identifier: HHS-OS-20358-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0990-0317, which expires on October 31, 2013. Prior to submitting ICR to OMB, OS seeks comments from the public regarding the burden estimate, below, or any other aspect of the ICR.

DATES: Comments on the ICR must be received on or before October 28, 2013.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-0317-60D for reference.

Information Collection Request Title: HHS Supplemental Form to the SF-424 (HHS 5161-1)

OMB No.: 0990-0317.

Abstract: HHS is requesting clearance for the Checklist and Program Narrative & the Public Health System Impact Statement (PHSIS), used by several former PHS agencies within HHS; CDC 0.1113 supplemental forms used exclusively by CDC; a supplement form used exclusively by Substance Abuse Mental Health Services Administration (SAMHSA), and the Single Source Agency (SSA) notification form, as well as continued use of the project abstract form. In addition, HHS will continue to include the use of the 5161-1 form for several emergency acts and funding that were the result of the September 11th attack on the World Trade Center, specifically, the Public Health Preparedness for Response to Bioterrorism (Emergency Supplement) (CDC), the Bioterrorism Hospital Preparedness Program cooperative agreement (HRSA), and 2 emergency response grants from (SAMHSA).

Need and Proposed Use of the Information: Each agency's financial assistance program evaluates the information provided by the applicants to select the ones most likely to meet program objectives and to determine that satisfactory progress is being made on funded projects.

Likely Respondents: CDC, SAMHSA, IHS, OS, FDA, and HRSA

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Forms | No. of respondents | Response per respondent | Avg. burden per response (in hours) | Total burden (in hours)
Program Narrative, Checklist, & Project Abstract | 7,338 | 1 | 4 | 29,373
Program Narrative, Checklist & Project Narrative (CDC) | 59 | 6 | 24 | 8,496
Program Narrative, Checklist, & Project Narrative (HRSA) | 59 | 1 | 50 | 2,950
CDC Form 0.1113 | 1,000 | 1 | 30/60 | 500
Public Health Impact Statement (PHSIS) | 2,845 | 2.5 | 10/60 | 1,185
Total |  |  |  | 42,691

OS specifically requests comments on (1) The necessity and utility of the proposed information collection for the proper performance of the agency's functions, (2) the accuracy of the estimated burden, (3) ways to enhance the quality, utility, and clarity of the information to be collected, and (4) the use of automated collection techniques or other forms of information technology to minimize the information collection burden.

Darius Taylor,
Deputy Information Collection Clearance Officer.

[FR Doc. 2013-20959 Filed 8-27-13; 8:45 am]

BILLING CODE 4151-17-P